DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of nine individuals whose property and interests in property have been blocked pursuant to the Foreign Narcotics Kingpin Designation Act (Kingpin Act), 21 U.S.C. 1901-1908, 8 U.S.C. 1182.

DATES: OFAC's actions described in this notice were effective on October 27, 2016.

FOR FURTHER INFORMATION CONTACT: Assistant Director, Sanctions Compliance & Evaluation, Office of Foreign Assets Control, U.S. Department of the Treasury, Washington, DC 20220, Tel: (202) 622-2490.

SUPPLEMENTARY INFORMATION:

Electronic Availability

The SDN List and additional information concerning OFAC sanctions programs are available from OFAC's Web site (www.treas.gov/ofac).

Notice of OFAC Actions

On October 27, 2016, OFAC blocked the property and interests in property of the following nine individuals pursuant to section 805(b) of the Kingpin Act and placed them on the SDN List.

Individuals:

1. CASTILLO RODRIGUEZ, Julio Alberto, Mexico; DOB 11 Oct 1976; POB Apatzingan, Michoacan de Ocampo, Mexico; C.U.R.P. CARJ761011HMNSDL06 (Mexico) (individual) [SDNTK] (Linked To: CARTEL DE JALISCO NUEVA GENERACION; Linked To: LOS CUINIS; Linked To: J & P ADVERTISING, S.A. DE C.V.; Linked To: W&G ARQUITECTOS, S.A. DE C.V.). Materially assisting in, or providing financial support for or to, or providing services in support of, the international narcotics trafficking activities of, CARTEL DE JALISCO NUEVA GENERACION and/or is directed by, or acting for or on behalf of CARTEL DE JALISCO NUEVA GENERACION and/or the LOS CUINIS DRUG TRAFFICKING ORGANIZATION and thus meets the criteria for designation pursuant to § 805(b)(2) and/or (3) of the Kingpin Act, 21 U.S.C. 1904(b)(2) and/or (3).

2. GONZALEZ VALENCIA, Arnulfo, Mexico; DOB 22 Jun 1968; POB Aguililla, Michoacan de Ocampo, Mexico; C.U.R.P. GOVA680622HMNNLR02 (Mexico) (individual) [SDNTK] (Linked To: LOS CUINIS). Materially assisting in, or providing financial support for or to, or providing services in support of, the international narcotics trafficking activities of, the LOS CUINIS DRUG TRAFFICKING ORGANIZATION and/or is directed by, or acting for or on behalf of the LOS CUINIS DRUG TRAFFICKING ORGANIZATION and thus meets the criteria for designation pursuant to § 805(b)(2) and/or (3) of the Kingpin Act, 21 U.S.C. 1904(b)(2) and/or (3).

3. GONZALEZ VALENCIA, Edgar Eden, Mexico; DOB 08 Oct 1984; POB Aguililla, Michoacan de Ocampo, Mexico; C.U.R.P. GOVE841008HMNNLD01 (Mexico) (individual) [SDNTK] (Linked To: LOS CUINIS). Materially assisting in, or providing financial support for or to, or providing services in support of, the international narcotics trafficking activities of, the LOS CUINIS DRUG TRAFFICKING ORGANIZATION and/or is directed by, or acting for or on behalf of the LOS CUINIS DRUG TRAFFICKING ORGANIZATION and thus meets the criteria for designation pursuant to § 805(b)(2) and/or (3) of the Kingpin Act, 21 U.S.C. 1904(b)(2) and/or (3).

4. GONZALEZ VALENCIA, Elvis (a.k.a. TAPIA CASTRO, Alejandro), Mexico; DOB 12 Oct 1980; alt. DOB 18 Mar 1979; POB Aguililla, Michoacan de Ocampo, Mexico; C.U.R.P. GOVE801012HMNNLL03 (Mexico); alt. C.U.R.P. TACA790318HJCPSL08 (Mexico); I.F.E. TPCSAL79031814H401 (Mexico) (individual) [SDNTK] (Linked To: CARTEL DE JALISCO NUEVA GENERACION; Linked To: LOS CUINIS). Materially assisting in, or providing financial support for or to, or providing services in support of, the international narcotics trafficking activities of, CARTEL DE JALISCO NUEVA GENERACION and/or the LOS CUINIS DRUG TRAFFICKING ORGANIZATION and/or is directed by, or acting for or on behalf of CARTEL DE JALISCO NUEVA GENERACION and/or the LOS CUINIS DRUG TRAFFICKING ORGANIZATION and thus meets the criteria for designation pursuant to § 805(b)(2) and/or (3) of the Kingpin Act, 21 U.S.C. 1904(b)(2) and/or (3).

5. GONZALEZ VALENCIA, Marisa Ivette, Mexico; DOB 27 Jul 1988; POB Apatzingan, Michoacan de Ocampo, Mexico; C.U.R.P. GOVM880727MMNNLR08 (Mexico) (individual) [SDNTK] (Linked To: LOS CUINIS). Materially assisting in, or providing financial support for or to, or providing services in support of, the international narcotics trafficking activities of, the LOS CUINIS DRUG TRAFFICKING ORGANIZATION and/or is directed by, or acting for or on behalf of the LOS CUINIS DRUG TRAFFICKING ORGANIZATION and thus meets the criteria for designation pursuant to § 805(b)(2) and/or (3) of the Kingpin Act, 21 U.S.C. 1904(b)(2) and/or (3).

6. GONZALEZ VALENCIA, Noemi (a.k.a. GONZALEV VALENCIA, Noemi), Mexico; DOB 05 Dec 1983; POB Aguililla, Michoacan de Ocampo, Mexico; C.U.R.P. GOVN831205MMNNLM07 (Mexico) (individual) [SDNTK] (Linked To: LOS CUINIS). Materially assisting in, or providing financial support for or to, or providing services in support of, the international narcotics trafficking activities of, the LOS CUINIS DRUG TRAFFICKING ORGANIZATION and/or is directed by, or acting for or on behalf of the LOS CUINIS DRUG TRAFFICKING ORGANIZATION and thus meets the criteria for designation pursuant to § 805(b)(2) and/or (3) of the Kingpin Act, 21 U.S.C. 1904(b)(2) and/or (3).

7. OSEGUERA CERVANTES, Antonio (a.k.a. MORA GARIBAY, Joel; a.k.a. “Tony Montana”), Priv Linda Vista 3986, Fracc El Soler, Tijuana, B.C. 22110, Mexico; DOB 20 Aug 1958; POB Aguililla, Michoacan de Ocampo, Mexico; C.U.R.P. OECA580820HMNSRN04 (Mexico); I.F.E. OSCRAN58082016H800 (Mexico) (individual) [SDNTK] (Linked To: CARTEL DE JALISCO NUEVA GENERACION). Materially assisting in, or providing financial support for or to, or providing services in support of, the international narcotics trafficking activities of CARTEL DE JALISCO NUEVA GENERACION and/or Nemesio OSEGUERA CERVANTES, and/or directed by, or acting for or on behalf of, CARTEL DE JALISCO NUEVA GENERACION and/or Nemesio OSEGUERA CERVANTES and therefore meets the criteria for designation pursuant to sections 805(b)(2) and/or (3) of the Kingpin Act, 21 U.S.C. 1904(b)(2) and/or (3).

8. QUINTANA NAVARRO, Maria Teresa, C. Jose Vasconcelos 556, Col. Colinas De La Normal, Guadalajara, Jalisco, Mexico; Efrain Gonzalez Luna 2481, Guadalajara, Jalisco 44140, Mexico; Efrain Gonzalez Luna 302, Guadalajara, Jalisco CP 44200, Mexico; DOB 05 Mar 1971; POB Guadalajara, Jalisco, Mexico; C.U.R.P. QUNT710305MJCNVR02 (Mexico) (individual) [SDNTK] (Linked To: CARTEL DE JALISCO NUEVA GENERACION; Linked To: LOS CUINIS). Materially assisting in, or providing financial support for or to, or providing services in support of, the international narcotics trafficking activities of, CARTEL DE JALISCO NUEVA GENERACION, the LOS CUINIS DRUG TRAFFICKING ORGANIZATION, Nemesio OSEGUERA CERVANTES, and/or Abigael GONZALEZ VALENCIA and/or is directed by, or acting for or on behalf of CARTEL DE JALISCO NUEVA GENERACION, the LOS CUINIS DRUG TRAFFICKING ORGANIZATION, Nemseio OSEGUERA CERVANTES, and/or Abigael GONZALEZ VALENCIA and thus meets the criteria for designation pursuant to § 805(b)(2) and/or (3) of the Kingpin Act, 21 U.S.C. 1904(b)(2) and/or (3).

9. VERA LOPEZ, Fabian Felipe (a.k.a. LOPEZ, Favian Felipe; a.k.a. VARELLA LOPEZ, Ton; a.k.a. VERA LOPEZ, Felipe), Mexico; DOB 28 Oct 1967; POB Guadalajara, Jalisco, Mexico; C.U.R.P. VELF671028HJCRPL08 (Mexico) (individual) [SDNTK] (Linked To: LOS CUINIS). Materially assisting in, or providing financial support for or to, or providing services in support of, the international narcotics trafficking activities of, the LOS CUINIS DRUG TRAFFICKING ORGANIZATION and/or Abigael GONZALEZ VALENCIA and/or is directed by, or acting for or on behalf of, the LOS CUINIS DRUG TRAFFICKING ORGANIZATION and/or Abigael GONZALEZ VALENCIA and thus meets the criteria for designation pursuant to § 805(b)(2) and/or (3) of the Kingpin Act, 21 U.S.C. 1904(b)(2) and/or (3).

Dated: October 27, 2016.
John E. Smith,
Acting Director, Office of Foreign Assets Control.

[FR Doc. 2016-26344 Filed 10-31-16; 8:45 am]

BILLING CODE 4810-AL-P